DEPARTMENT OF ENERGY

Federal Energy Regulatory Commission

[Docket Nos. AD21-6-000; AD20-6-000]

RTO/ISO Credit Principles and Practices; Credit Reforms in Organized Wholesale Electric; Notice Inviting Post-Technical Conference Comments

On February 25 and 26, 2021, Federal Energy Regulatory Commission (Commission) staff convened a technical conference to discuss principles and best practices for credit risk management in organized wholesale electric markets.

All interested persons are invited to file post-technical conference comments on the issues raised during the technical conference, including the questions listed in the Supplemental Notice of Technical Conference issued February 24, 2021, and on the questions listed in the attachment to this Notice. Commenters need not answer all of the questions but are encouraged to organize responses using the numbering and sequencing in the Supplemental Notice and the attached questions. In addition, commenters are invited to reference material previously filed in this docket, including the technical conference transcript and submitted opening remarks, but are encouraged to avoid repetition or replication of previous material. Comments must be submitted on or before 45 days from the date of this Notice.

Comments may be filed electronically via the internet.¹ Instructions are available on the Commission's website http://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, submissions sent via the U.S. Postal Service must be addressed to: Federal Energy Regulatory Commission, Office of the Secretary, 888 First Street NE, Washington, DC 20426. Submissions sent via any other carrier must be addressed to: Federal Energy Regulatory Commission, Office of the Secretary, 12225 Wilkins Avenue, Rockville, Maryland 20852.

¹ See 18 CFR 385.2001(a)(1)(iii).

For more information about this Notice, please contact:

David Bowers (Technical Information), Office of Energy Policy and Innovation, (202) 502-8594, David.Bowers@ferc.gov

Kaleb Lockwood (Legal Information), Office of the General Counsel, (202) 502-8255, Kaleb.Lockwood@ferc.gov

Dated: April 21, 2021.
Kimberly D. Bose,
Secretary.

[FR Doc. 2021-08746 Filed 4-26-21; 8:45 am]

BILLING CODE 6717-01-P